DEPARTMENT OF THE INTERIOR

National Park Service

Final Environmental Impact Statement and Cape Hatteras National Seashore Off-Road Vehicle Management Plan

AGENCY: National Park Service, Interior.

ACTION: Notice of Availability of a Final Environmental Impact Statement for the Cape Hatteras National Seashore Off-Road Vehicle Management Plan.

SUMMARY: Pursuant to the National Environmental Policy Act of 1969, 42 U.S.C. 4332 (2) (C), and the Council on Environmental Quality regulations (40 CFR part 1500-1508), the National Park Service (NPS), Department of the Interior, announces the availability of the final environmental impact statement (FEIS) for the proposed Cape Hatteras National Seashore (Seashore) Off-Road Vehicle Management Plan (Plan/FEIS). The Plan/FEIS will enable NPS to develop regulations and procedures to manage off-road vehicle (ORV) use/access in the Seashore consistent with the Executive Orders on ORV use on Federal lands and NPS regulations.

DATES: The NPS will execute a Record of Decision no sooner than 30 days from the date of publication of the Notice of Availability of the FEIS in the Federal Register by the Environmental Protection Agency

ADDRESSES: Electronic copies of the document are available for public review online at http://parkplanning.nps.gov/caha. A limited number of compact disks (CDs) and hard copies of the FEIS are available at the Seashore headquarters, 1401 National Park Drive, Manteo, NC 27954. You may also request a hard copy or CD by contacting Superintendent Mike Murray, Cape Hatteras National Seashore, 1401 National Park Drive, Manteo, NC 27954.

SUPPLEMENTARY INFORMATION: The purpose of the Plan/FEIS is to develop regulations and procedures that manage ORV use and access in the Seashore to protect and preserve natural and cultural resources and natural processes, to provide a variety of visitor use experiences while minimizing conflicts among various users, and to promote the safety of all visitors. Executive Order 11644 of 1972, amended by Executive Order 11989 of 1977, requires certain Federal agencies permitting ORV use on Agency lands to designate specific trails and areas. Title 36, section 4.10 of the Code of Federal Regulations implements the Executive Orders by providing that routes and areas designated for ORV use in units of the National Park System shall be promulgated as special regulations. Therefore, this Plan/FEIS is necessary to bring the Seashore in compliance with Executive Orders 11644 and 11989, address the lack of an approved plan, and provide for protected species management in relation to ORV use. The FEIS evaluates two no action alternatives and four action alternatives for managing ORV use, and identifies their potential environmental consequences. Consistent with NPS laws, regulations, and policies, and the purpose of the Seashore, the FEIS describes Alternative F as the NPS preferred alternative. Alternative F provides a reasonably balanced approach to designating ORV routes and vehicle free areas while providing for the protection of park resources.

Alternative A would manage ORV use and access at the Seashore based on the 2007 Finding of No Significant Impact (FONSI) for the Interim Protected Species Management Strategy/Environmental Assessment and the Superintendent's Compendium 2007, as well as elements from the 1978 draft interim ORV management plan that were incorporated in Superintendent's Order 7. Alternative B would continue management in effect during 2008-2010. Under alternative B, management of ORV use would follow the terms described under alternative A, except as modified by the provisions of the consent decree, as amended. Modifications in the consent decree include changes to resource protection buffers and closures for various species at the Seashore and added restrictions related to night driving. Alternative C emphasizes seasonal designation of ORV routes. It would provide visitors to the Seashore with a degree of predictability regarding areas available for ORV use, as well as vehicle-free areas, based largely on the seasonal resource and visitor use characteristics of various areas in the Seashore.

Alternative D would give visitors to the Seashore the maximum amount of predictability regarding areas available for ORV use and vehicle-free areas for pedestrian use. Restrictions would be applied to larger areas over longer periods of time to minimize changes in designated ORV and non-ORV areas over the course of the year. Alternative E would provide use areas for all types of visitors to the Seashore with a wide variety of access for both ORV and pedestrian users, but often with controls or restrictions in place to limit impacts on sensitive resources. Interdunal road and ramp access would be improved, and more pedestrian access would be provided through substantial additions to parking capacity at various key locations that lend themselves to walking on the beach. Alternative E would provide more miles of ORV routes, shorter hours of ORV night closure during sea turtle nesting season, a park and stay program, and a self-contained vehicle camping program.

Alternative F, the NPS preferred alternative, is designed to provide visitors to the Seashore with a wide variety of access opportunities for both ORV and pedestrian users. Following consideration of public comment on the DEIS, Alternative F was revised to provide more pedestrian access adjacent to resource closures, where possible, and a more balanced approach to ORV routes and vehicle-free areas than Alternative F provided in the DEIS. To support access to both vehicle-free areas and designated ORV routes, alternative F would involve the construction of new parking areas, pedestrian access trails, ORV ramps, and improvements and additions to the interdunal road system.

The NPS Notice of Availability for the DEIS was published in the Federal Register on March 5, 2010. The DEIS was posted online at http://parkplanning.nps.gov/caha on March 5, 2010. The U.S. Environmental Protection Agency Notice of Availability for the DEIS was published on March 12, 2010, which opened the public comment period and established the closing date of May 11, 2010, for comments. Five public hearings were conducted in North Carolina and Virginia between April 26 and 29, 2010. Following a review of agency and public comment on the DEIS, NPS prepared a concern response report which contains responses to substantive comments. This report is included as an appendix to the FEIS.

Authority: The authority for publishing this notice is 40 CFR 1506.6.

FOR FURTHER INFORMATION CONTACT: Mike Murray, Superintendent, Cape Hatteras National Seashore, 1401 National Park Drive, Manteo, NC 27954, (252) 473-2111 × 148.

The responsible official for this final EIS is the Regional Director, Southeast Region, National Park Service, 100 Alabama Street SW, 1924 Building, Atlanta, Georgia 30303.

Dated: October 19, 2010.
Gordon Wissinger,
Acting Regional Director, Southeast Region.

[FR Doc. 2010-28710 Filed 11-12-10; 8:45 am]

BILLING CODE 4310-X6-P